DEPARTMENT OF JUSTICE

Office of Justice Programs

[OJP (NIJ) Docket No. 1641]

Draft Criminal Justice Offender Tracking System Standard and Companion Documents

AGENCY: National Institute of Justice, Department of Justice.

ACTION: Notice and request for comments.

SUMMARY: In an effort to obtain comments from interested parties, the U.S. Department of Justice, Office of Justice Programs, National Institute of Justice will make available to the general public four draft documents: (1) A draft standard entitled, “Criminal Justice Offender Tracking System Standard”; (2) a draft companion document entitled, “Criminal Justice Offender Tracking System Certification Program Requirements”; (3) a draft companion Selection and Application Guide, and (4) a new draft companion document entitled, “Criminal Justice Offender Tracking System Refurbishment Service Program Requirements”. The opportunity to provide comments on these four documents is open to industry technical representatives, criminal justice agencies and organizations, research, development and scientific communities, and all other stakeholders and interested parties. Those individuals wishing to obtain, and provide comments on, the draft documents under consideration are directed to the following Web site: https://www.justnet.org/standards/Offender_Tracking_Standards.html.

DATES: Responses to this request will be accepted through 11:59 p.m. Eastern Time on January 9, 2014.

FOR FURTHER INFORMATION CONTACT: Jack Harne, by telephone at 202-616-2911 [Note: this is not a toll-free telephone number], or by email at Jack.Harne@usdoj.gov. Those individuals wishing to obtain, and provide comments on, the draft documents under consideration are directed to the following Web site: https://www.justnet.org/standards/Offender_Tracking_Standards.html.

Gregory K. Ridgeway,
Acting Director, National Institute of Justice.

[FR Doc. 2013-29398 Filed 12-9-13; 8:45 am]

BILLING CODE 4410-18-P